EQUAL EMPLOYMENT OPPORTUNITY COMMISSION

Agency Information Collection Activities: Proposed Collection; Comments Request

AGENCY: Equal Employment Opportunity Commission.

ACTION: Notice of Information Collection—Extension With Change: Local Union Report (EEO-3).

SUMMARY: In accordance with the Paperwork Reduction Act, the Equal Employment Opportunity Commission (EEOC or Commission) announces that it intends to submit to the Office of Management and Budget (OMB) a request for a three-year extension with change of the Local Union Report (EEO-3) (Form 274). EEOC is in the process of revising the race and ethnicity categories on the EEO-3 report to conform to OMB's Revisions to the Standards for the Classification of Federal Data on Race and Ethnicity (October 30, 1997) (Revised Standards), as applied in OMB Bulletin No. 00-02, Guidance on Aggregation and Allocation of Data on Race for Use in Civil Rights Monitoring and Enforcement (March 9, 2000). See Appendix A for a draft version of the proposed Form 274. Pending OMB approval of an emergency extension request, to be effective after the current August 31, 2014 expiration date, a regular clearance request for OMB review and approval of a three-year extension of the EEO-3 Report is beginning.

DATES: Written comments on this notice must be submitted on or before October 27, 2014. Pursuant to 42 U.S.C. 2000e-8(c), a public hearing concerning the proposed changes to the EEO-3 will be held at a place and time to be announced. Persons wishing to present their views orally should notify the Commission of their desire to do so in writing no later than September 26, 2014. The request to present views orally at a public hearing should include a written summary of the remarks to be offered.

ADDRESSES: Comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number). Receipt of FAX transmittals will not be acknowledged, except that the sender may request confirmation of receipt by calling the Executive Secretariat staff at (202) 663-4070 (voice) or (202) 663-4074 (TTD). (These are not toll-free telephone numbers.) Instead of sending written comments to EEOC, you may submit comments and attachments electronically at http://www.regulations.gov, which is the Federal eRulemaking Portal. Follow the instructions online for submitting comments. All comments received through this portal will be posted without change, including any personal information you provide, except as noted below. Copies of comments submitted by the public to EEOC directly or through the Federal eRulemaking Portal will be available for review, by advance appointment only, at the Commission's library between the hours of 9:00 a.m. and 5 p.m. Eastern Time or can be reviewed at http://www.regulations.gov. EEOC reserves the right to refrain from posting comments, including those that contain obscene, indecent, or profane language; contain threats or defamatory statements; contain hate speech directed at race, color, sex, sexual orientation, national origin, ethnicity, age, religion, or disability; or promote or endorse services or products. To schedule an appointment to inspect the comments at EEOC's library, contact the library staff at (202) 663-4630 (voice) or (202) 663-4641 (TTY). (These are not toll-free numbers.)

FOR FURTHER INFORMATION CONTACT: Ronald Edwards, Director, Program Research and Surveys Division, Equal Employment Opportunity Commission, 131 M Street NE., Room 4SW30F, Washington, DC 20507; (202) 663-4949 (voice) or (202) 663-7063 (TTY). Requests for this notice in an alternative format should be made to the Office of Communications and Legislative Affairs at (202) 663-4191 (voice) or (202) 663-4494 (TTY).

SUPPLEMENTARY INFORMATION: The EEOC has collected information from local unions on the EEO-3 form since 1966. The Commission now proposes to revise the EEO-3 report to conform to OMB's Revisions to the Standards for the Classification of Federal Data on Race and Ethnicity (October 30, 1997) (Revised Standards), as applied in OMB Bulletin No. 00-02, Guidance on Aggregation and Allocation of Data on Race for Use in Civil Rights Monitoring and Enforcement (March 9, 2000). This will require a change of the Form 274.

EEOC will revise the EEO-3 report to include the following race and ethnicity categories: Hispanic or Latino; White; Black or African American; Asian; Native Hawaiian or Other Pacific Islander; American Indian or Alaska Native; and Two or More Races.

Overview of Information Collection

Collection Title: Local Union Report (EEO-3).

OMB Number: 3046-0006.

Frequency of Report: Biennial.

Type of Respondent: Referral local unions with 100 or more members.

Description of Affected Public: Referral local unions and independent or unaffiliated referral unions and similar labor organizations.

Responses: 1,176.

Reporting Hours: 2,405.

Cost Burden: $2,822,400.

Federal Cost: $81,935.

Number of Forms: 1.

Form Number: EEOC Form 274.

Abstract: Section 709(c) of Title VII of the Civil Rights Act of 1964, as amended, 42 U.S.C. 2000e-8(c), requires labor organizations to make and keep records relevant to a determination of whether unlawful employment practices have been or are being committed and to produce reports from the data. The EEOC issued regulations requiring referral local unions with 100 or more members to submit EEO-3 reports. The individual reports are confidential. The EEOC uses EEO-3 data to investigate charges of discrimination and for research.

Burden Statement: The estimated number of respondents included in the biennial EEO-3 survey is 1,176 referral unions. The changes discussed herein will increase the biennial respondent burden hours from 2,102 to 2,405 and EEOC costs from $60,000 to $81,935. The burden per report will be 2.05 hours.

Recurring Costs
Annual responses | Annual burden hours | Burden hours per report | Burden hours per cell | EEOC cost
Current form
55 Cells
1,401 | 2,102 | 1.5 | 0.027 | $60,000
Revised form
75 Cells
1,176 | 2,405 | 2.05 | 0.027 | $81,935
* Note: Due to rounding, for this table, figures may not be replicated exactly.

Estimated burden hours were calculated by multiplying the number of reports expected to be filed biennially (1,176 in 2012) by the estimated average time to complete and submit each report (2.05 hours). These estimates are based on an assumption of paper reporting. However, the EEOC has made electronic filing much easier for respondents required to file the EEO-3 Report. As a result, more jurisdictions are using this filing method. This development, along with the greater availability of human resource information software, is expected to have significantly reduced the actual burden of reporting. However, empirical data in this area is lacking. Accordingly, efforts will be undertaken by the Commission to (1) develop more reliable estimates of reporting burdens given the significant increase in electronic filing; and (2) to implement new approaches to make such reporting even less burdensome.

The other new burden is the one-time cost of respondents changing the manner in which they collect and store the new race and ethnicity changes as well as changes to computer programs and systems. There will be no cost for respondents with a current system that is already designed to handle the full multiple race and ethnicity classifications. It is estimated that about ten percent of respondents currently have this ability. The chart below shows the estimated cost for respondents who will have to re-survey the members to comply with the new race and ethnicity changes.

One Time Costs
[Modifications to Human Resource Information Systems]
Labor task requirements | Hours | Hourly rate | Cost
System/business analyst | 8 | $55 | $440
Developer | 24 | 65 | 1,560
Tester | 8 | 50 | 400
Total per local |  |  | $2,400
| Locals | Total costs
Total all respondents | 1,176 | $2,822,400

In order to help reduce survey burden, respondents are encouraged to report data electronically whenever possible.

Pursuant to the Paperwork Reduction Act of 1995, 44 U.S.C. Chapter 35, and OMB regulation 5 CFR 1320.8(d)(1), the Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Dated: August 21, 2014.
For the Commission.
Jacqueline A. Berrien,
Chair.

BILLING CODE 6570-01-P

[FR Doc. 2014-20452 Filed 8-26-14; 8:45 am]

BILLING CODE 6570-01-C